DEPARTMENT OF AGRICULTURE

Forest Service

California Coast Provincial Advisory Committee

AGENCY: Forest Service, USDA.

ACTION: Notice of Meeting.

SUMMARY: The California Coast Provincial Advisory Committee (CCPAC) will meet on October 17, 2007, in Eureka, California. The purpose of the meeting is to discuss issues relating to implementing the Northwest Forest Plan (NWFP).

DATES: The meeting will be held from 9 a.m. to 3 p.m.

ADDRESSES: The meeting will be held at the Six Rivers National Forest, Supervisor's Office, 1330 Bayshore Way, Eureka, California.

FOR FURTHER INFORMATION CONTACT: Kathy Allen, Committee Coordinator, USDA, Six Rivers National Forest, 1330 Bayshore Way, Eureka, CA 95501, (707) 441-3557, kmallen@fs.fed.us.

SUPPLEMENTARY INFORMATION: Agenda topics to be covered include: (1) New Mexico Forest Restoration Principles; (2) Marijuana Cultivation; (3) Orleans Community Fuels Reduction Project; (4) Survey and Manage Update; (5) Northwest Forest Plan Update; and (6) Northern Spotted Owl Recovery Plan Update.

The meeting is open to the public. Public input opportunity will be provided and individuals will have the opportunity to address the Committee at that time.

Dated: October 5, 2007.
Tyrone Kelley,
Designated Federal Official.

[FR Doc. 07-5040 Filed 10-11-07; 8:45 am]

BILLING CODE 3410-11-M